DEPARTMENT OF HOMELAND SECURITY

Office of the Secretary

[DHS-2005-0015]

Privacy Act of 1974; System of Records; Correction

AGENCY: Office of the Secretary, DHS.

ACTION: Notice; correction.

SUMMARY: The Department of Homeland Security (DHS) is correcting a notice that was published in the Federal Register on March 22, 2005, at 70 FR 14477 which gives notice that the Bureau of Immigration and Customs Enforcement (ICE) proposes to add a new system of records to the Department's inventory of record systems. The system of records is the Student and Exchange Visitor Information System. In the Heading of the notice, DHS inadvertently mislabeled the DHS docket number associated with the notice. DHS would like to announce that the DHS docket number for submitting comments to this notice is DHS-2005-0015. Directions for submitting comments using this method are outlined within 70 FR 14477.

DATES: This correction is effective March 28, 2005.

FOR FURTHER INFORMATION CONTACT: Jeff Ament, Department of Homeland Security Regulatory Coordinator, Department of Homeland Security, Washington, DC 20528, (202) 205-8088.

SUPPLEMENTARY INFORMATION:

Need for Correction

As published in the Federal Register on March 22, 2005 (70 FR 14477), the notice contains an error that is in need of correction.

Correction of Publication

Accordingly, the publication on March 22, 2005 (70 FR 14477), is corrected as follows:

1. On page 14477, in the heading, third line, the new DHS docket number should read: “DHS Docket Number DHS-2005-0015”

Mary Kate Whalen,
Deputy Associate General Counsel for Regulations, Office of the General Counsel, U.S. Department of Homeland Security.

[FR Doc. 05-6051 Filed 3-23-05; 4:33 pm]

BILLING CODE 4410-10-P